DEPARTMENT OF LABOR

Employment and Training Administration

[TA-W-36,278, TA-W-36,278A]

Mannor Corporation, Bay Minette, Alabama and Mannor Corporation, New York, NY; Amended Certification Regarding Eligibility To Apply for Worker Adjustment Assistance

In accordance with section 223 of the Trade Act of 1974 (19 U.S.C. 2273) the Department of Labor issued a Certification of Eligibility to Apply for Worker Adjustment Assistance on July 14, 1999, applicable to workers of Mannor Corporation, Bay Minette, Alabama. The notice was published in the Federal Register on August 11, 1999 (64 FR 43724).

At the request of the company, the Department reviewed the certification for workers of the subject firm. The workers were engaged in the production of men's dress trousers. The company reports that the New York, New York location provided administrative, executive and merchandising support services to Mannor Corporation's Bay Minette, Alabama location. The workers of the New York, New York location were inadvertently omitted from the certification. Accordingly, the Department is amending the certification to cover workers of Mannor Corporation, New York, New York.

The intent of the Department's certification is to include all workers of Mannor Corporation adversely affected by increased imports.

The amended notice applicable to TA-T-36,278 is hereby issued as follows:

All workers of Mannor Corporation, Bay Minette, Alabama (TA-W-36,278) and New York, New York (TA-W-36,278A) who became totally or partially separated from employment on or after May 10, 1998 through July 14, 2001, are eligible to apply for adjustment assistance under Section 223 of the Trade Act of 1974.

Signed at Washington, DC this 15th day of March, 2001.
Linda G. Poole,
Certifying Officer, Division of Trade Adjustment Assistance.

[FR Doc. 01-8324 Filed 4-4-01; 8:45 am]

BILLING CODE 4510-30-M